DEPARTMENT OF THE INTERIOR

Bureau of Land Management

[BLM_CA_FRN_MO4500176895]

Filing of Plats of Survey: California

AGENCY: Bureau of Land Management, Interior.

ACTION: Notice of official filing.

SUMMARY: The plats of survey of lands described in this notice are scheduled to be officially filed in the Bureau of Land Management (BLM), California State Office, Sacramento, California, 30 calendar days from the date of this publication. The surveys, which were executed at the request of the Department of Defense, U.S. Forest Service, and Bureau of Land Management, are necessary for the management of these lands.

DATES: Unless there are protests to this action, the plats described in this notice will be filed on February 28, 2024.

ADDRESSES: You may submit written protests to the BLM California State Office, Cadastral Survey, 2800 Cottage Way, W-1623, Sacramento, CA 95825. A copy of the plats may be obtained from the BLM California State Office, Public Room, 2800 Cottage Way, W-1623, Sacramento, California 95825, upon required payment.

FOR FURTHER INFORMATION CONTACT: Joan Honda, Chief, Branch of Cadastral Survey, Bureau of Land Management, California State Office, 2800 Cottage Way, W-1623, Sacramento, California 95825; 1-916-978-4316; jhonda@blm.gov.

Individuals in the United States who are deaf, deafblind, hard of hearing, or have a speech disability may dial 711 (TTY, TDD, or TeleBraille) to access telecommunications relay services for contacting Ms. Honda. Individuals outside the United States should use the relay services offered within their country to make international calls to the point-of-contact in the United States.

SUPPLEMENTARY INFORMATION: The lands surveyed are:

Humboldt Meridian, California

T. 4 N., R. 1 W., dependent resurvey, subdivision of section 26 and metes-and-bounds survey, for Group No. 1789, accepted November 30, 2022.

Mount Diablo Meridian, California

T. 10 S., R. 3 W., metes-and-bounds survey, for Group No. 1785, accepted October 20, 2022.

T. 44 N., R. 12 W., metes-and-bounds survey, for Group No. 1784, accepted March 29, 2023.

T. 2 N., R. 16 E., supplemental plat of portions of sections 28 and 33 showing new and amended lotting, accepted July 18, 2023.

T. 11 N., R. 10 E., dependent resurvey and subdivision of section 22, for Group No. 1809, accepted July 18, 2023.

T. 5 N., R. 25 E., dependent resurvey, subdivision of sections and metes-and-bounds survey, for Group No. 1718, accepted August 30, 2023.

T. 4 N., R. 25 E., dependent resurvey and subdivision of section 4, for Group No. 1718, accepted August 30, 2023.

San Bernardino Meridian, California

T. 13 N., R. 6 E., dependent resurvey and metes-and-bounds survey, for Group No. 1786, accepted November 23, 2022.

T. 7 N., R. 6 W., dependent resurvey, for Group No. 1797, accepted December 5, 2022.

T. 7 N., R. 7 W., dependent resurvey, for Group No. 1797, accepted December 5, 2022.

T. 14 N., R. 6 E., dependent and independent resurveys, completion survey and metes-and-bounds survey, for Group No. 1786, accepted March 28, 2023.

T. 14 N., R. 7 E., dependent resurvey, independent resurvey and metes-and-bounds survey, for Group No. 1786, accepted April 4, 2023.

T. 13 N., R. 6 E., amended, dependent resurvey and metes-and-bounds survey, for Group No. 1786, accepted May 16, 2023.

T. 15 N., R. 6 E., dependent resurvey and independent resurvey, for Group No. 1786, accepted May 23, 2023.

T. 15 N., R. 7 E., dependent resurvey, independent resurvey and metes-and-bounds survey, for Group No. 1786, accepted May 30, 2023.

T. 15 N., R. 8 E., dependent resurvey and metes-and-bounds survey, for Group No. 1786, accepted June 6, 2023.

T. 13 N., R. 5 E., supplemental plat showing amended areas, accepted July 18, 2023.

T. 12 N., R. 5 E., supplemental plat showing amended areas, accepted July 18, 2023.

T. 15 N., R. 7 E., supplemental plat showing new lotting, accepted August 30, 2023.

A person or party who wishes to protest one or more plats of survey must file a written notice of protest within 30 calendar days from the date of this publication at the address listed in the ADDRESSES section of this notice. Any notice of protest received after the due date will be untimely and will not be considered. A written statement of reasons in support of a protest, if not filed with the notice of protest, must be filed at the same address within 30 calendar days after the notice of protest is filed. If a protest against the survey is received prior to the date of official filing, the filing will be stayed pending consideration of the protest. A plat will not be officially filed until the day after all protests have been dismissed or otherwise resolved.

Before including your address, phone number, email address, or other personal identifying information in your notice of protest or statement of reasons, you should be aware that the documents you submit—including your personal identifying information—may be made publicly available at any time. While you can ask the BLM to withhold your personal identifying information from public review, we cannot guarantee that we will be able to do so.

Authority: 43 U.S.C., chapter 3.

Joan H. Honda,
Chief Cadastral Surveyor.

[FR Doc. 2024-01727 Filed 1-26-24; 8:45 am]

BILLING CODE 4331-15-P